ENVIRONMENTAL PROTECTION AGENCY

40 CFR Part 52

[EPA-R03-OAR-2014-0652; FRL-9929-07-Region-3]

Approval and Promulgation of Air Quality Implementation Plans; Pennsylvania; Update of the Motor Vehicle Emissions Budgets and General Conformity Budgets for the Scranton/Wilkes-Barre 1997 8-Hour Ozone National Ambient Air Quality Standard Maintenance Area

AGENCY: Environmental Protection Agency (EPA).

ACTION: Final rule.

SUMMARY: The Environmental Protection Agency (EPA) is approving State Implementation Plan (SIP) revisions submitted by the Commonwealth of Pennsylvania (Pennsylvania). These revisions consist of an update to the motor vehicle emissions budgets (MVEBs) for nitrogen oxides (NOX) for the 1997 8-Hour Ozone National Ambient Air Quality Standard (NAAQS) maintenance SIP for the Scranton/Wilkes-Barre 1997 8-Hour Ozone NAAQS Maintenance Area (Scranton/Wilkes-Barre Maintenance Area or Area). These SIP revisions also include general conformity budgets for the construction of the Bell Bend Nuclear Power Plant. In addition, these SIP revisions include updated point and area source inventories for NOX. EPA is approving these revisions to the Pennsylvania SIP in accordance with the requirements of the Clean Air Act (CAA).

DATES: This final rule is effective on July 15, 2015.

ADDRESSES: EPA has established a docket for this action under Docket ID Number EPA-R03-OAR-2014-0652. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Asrah Khadr, (215) 814-2071, or by email at khadr.asrah@epa.gov.

SUPPLEMENTARY INFORMATION:

I. Background

On March 10, 2015 (80 FR 12604), EPA published a notice of proposed rulemaking (NPR) for revisions to the Pennsylvania SIP. In the NPR, EPA proposed approval of an update to the MVEBs, updates to the point and area source inventories, and general conformity budgets for the construction of the Bell Bend Nuclear Power Plant. The formal SIP revision was submitted by Pennsylvania on May 28, 2014.

II. Summary of SIP Revision

Pennsylvania's SIP revisions revised the MVEBs for the Scranton/Wilkes-Barre Maintenance Area to reflect the use of the MOVES model; made updates to the point and area source inventories; and established general conformity budgets for the construction of the Bell Bend Nuclear Power Plant. A detailed discussion of the SIP revisions can be found in the SIP submittal, NPR, and technical support document (TSD) in this docket. The rationale for EPA's action is explained in the NPR and will not be restated here. No public comments were received on the NPR.

III. Final Action

EPA is approving an update to the MVEBs for the Scranton/Wilkes-Barre Maintenance Area, updates to the point and area source inventories for NOX, and general conformity budgets for the construction of the Bell Bend Nuclear Power Plant as revisions to the Pennsylvania SIP.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by August 14, 2015. Filing a petition for reconsideration by the Administrator of this final rule does not affect the finality of this action for the purposes of judicial review nor does it extend the time within which a petition for judicial review may be filed, and shall not postpone the effectiveness of such rule or action.

This action which approves an update to the MVEBs for the Scranton/Wilkes-Barre Maintenance Area, updates to the point and area source inventories, and general conformity budgets for the construction of the Bell Bend Nuclear Power Plant may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: June 1, 2015.
William C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by revising the entry “8-Hour Ozone Maintenance Plan and 2002 Base Year Emissions Inventory” for “Scranton/Wilkes-Barre Area: Lackawanna, Luzerne, Monroe and Wyoming Counties” to read as follows:

§ 52.2020 Identification of plan.

* * * * *

(e) * * *

(1) * * *

Name of non-regulatory SIP revision | Applicable geographic area | State submittal date | EPA Approval date | Additional explanation
* * * * * * *
8-Hour Ozone Maintenance Plan and 2002 Base Year Emissions Inventory | Scranton/Wilkes-Barre Area: Lackawanna, Luzerne, Monroe and Wyoming Counties | 6/12/07 | 11/14/07 72 FR 64948
|  | 5/28/14 | 6/15/15 [Insert Federal Register citation] | Revised 2009 and 2018 Motor Vehicle Emission Budgets. Revised 2009 and 2018 point source inventories. Revised 2018 area source inventory. General conformity budgets for the construction of the Bell Bend Nuclear Power Plant. See sections 52.2043 and 52.2052.
* * * * * * *

* * * * *

3. Section 52.2043 is amended by adding paragraphs (d), (e), and (f) to read as follows:

§ 52.2043 Control strategy for maintenance plans: ozone.

* * * * *

(d) As of June 15, 2015, EPA approves the following revised 2009 and 2018 point source inventory for nitrogen oxides (NOX) for the Scranton/Wilkes-Barre 1997 8-Hour Ozone Maintenance Area submitted by the Secretary of the Pennsylvania Department of Environmental Protection:

Applicable geographic area | Year | Tons per day NOX
Scranton/Wilkes-Barre 1997 8-Hour Ozone Maintenance Area | 2009 | 7.7
Scranton/Wilkes-Barre 1997 8-Hour Ozone Maintenance Area | 2018 | 5.8

(e) As of June 15, 2015, EPA approves the following revised 2018 area source inventory for nitrogen oxides (NOX) for the Scranton/Wilkes-Barre 1997 8-Hour Ozone Maintenance Area submitted by the Secretary of the Pennsylvania Department of Environmental Protection:

Applicable geographic area | Year | Tons per day NOX
Scranton/Wilkes-Barre 1997 8-Hour Ozone Maintenance Area | 2018 | 7.5

(f) As of June 15, 2015, EPA approves the following general conformity budgets for 2009 and 2018 for nitrogen oxides (NOX) for the Scranton/Wilkes-Barre 1997 8-Hour Ozone Maintenance Area submitted by the Secretary of the Pennsylvania Department of Environmental Protection:

Applicable geographic area | Year | Tons per day NOX
Scranton/Wilkes-Barre 1997 8-Hour Ozone Maintenance Area | 2009 | 1.0
Scranton/Wilkes-Barre 1997 8-Hour Ozone Maintenance Area | 2018 | 1.0

4. Section 52.2052 is amended by adding paragraph (d) to read as follows:

§ 52.2052 Motor vehicle emissions budgets for Pennsylvania ozone areas.

* * * * *

(d) As of June 15, 2015, EPA approves the following revised 2009 and 2018 Motor Vehicle Emissions Budgets (MVEBs) for nitrogen oxides (NOX) for the Scranton/Wilkes-Barre 1997 8-Hour Ozone Maintenance Area submitted by the Secretary of the Pennsylvania Department of Environmental Protection:

Applicable geographic area | Year | Tons per day NOX
Scranton/Wilkes-Barre 1997 8-Hour Ozone Maintenance Area | 2009 | 59.3
Scranton/Wilkes-Barre 1997 8-Hour Ozone Maintenance Area | 2018 | 30.5

[FR Doc. 2015-14440 Filed 6-12-15; 8:45 am]

BILLING CODE 6560-50-P